ENVIRONMENTAL PROTECTION AGENCY

EPA—New England Region I—EPA-R01-OW-2006-0581; FRL-8280-3]

Connecticut Marine Sanitation Device Standard—Receipt of Petition

AGENCY: Environmental Protection Agency (EPA).

ACTION: Notice—Receipt of Petition.

SUMMARY: Notice is hereby given that a petition has been received from the state of Connecticut requesting a determination by the Regional Administrator, U.S. Environmental Protection Agency, that adequate facilities for the safe and sanitary removal and treatment of sewage from all vessels are reasonably available for the state waters of Branford, East Haven, New Haven, West Haven, Orange, Milford, Stratford, Bridgeport, Fairfield, Westport, Norwalk, Darien, Stamford, and Greenwich. The proposed area also includes the Housatonic River from the Derby Dam and the Quinnipiac River from the southern border of North Haven.

DATES: Comments must be received on or before April 9, 2007.

ADDRESSES: Submit your comments, identified by Docket ID No. EPA-R01-OW-2006-0581 by one of the following methods: www.regulations.gov; Follow the on-line instructions for submitting comments.

• E-mail: rodney.ann@epa.gov.

• Fax: (617) 918-0538.

Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2006-0581. EPA's policy is that all comments received will be included in the public docket without change and may be made available online at www.regulations.gov, including any personal information provided, unless the comment includes information claimed to be Confidential Business Information (CBI) or other information whose disclosure is restricted by statute. Do not submit information that you consider to be CBI or otherwise protected, through www.regulations.gov, or e-mail. The www.regulations.gov Web-site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the U.S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the state of Connecticut requesting a determination by the Regional Administrator, U.S. Environmental Protection Agency, pursuant to Section 312(f)(3) of Public Law 92-500 as amended by Public Law 95-217 and Public Law 100-4, that adequate facilities for the safe and sanitary removal and treatment of sewage from all vessels are reasonably available along coastlines and coastal tidal rivers within the following boundaries:

Waterbody/General Area | Latitude | Longitude
From Byram Point at the western border of Greenwich | 40°59′03.15″ N | 73°39′24.55″ W
Southeast following the boundary between CT & NY to a point in LIS | 40°57′03.23″ N | 73°36′46.42″ W
Easterly following the boundary between CT & NY to a point due south of Hoadley Point at the eastern border of Branford | 41°07′51.17″ N | 72°44′09.73″ W
Due north to Hoadley Point at the eastern border of Branford | 41°15′22.88″ N | 72°44′09.73″ W

The proposed area also includes the navigable reaches of all Connecticut rivers and tidal streams that drain into Long Island Sound within its bounds, including the Housatonic River from the Derby Dam and the Quinnipiac River from the southern border of North Haven.

Connecticut has certified that there are 43 pumpout facilities within the proposed area available to the boating public. A list of the facilities, phone numbers, locations, and hours of operation is appended at the end of this petition.

Connecticut has provided documentation indicating that the total vessel population is estimated to be 12,000 in the proposed area. It is estimated that 5,000 of the total vessel population may have a Marine Sanitation Device (MSD) of some type. These total numbers may be overestimated by the state of Connecticut, which would give the boating public a larger ratio of pumpouts to boats (300-600 vessels for everyone facility). The majority of facilities are connected directly into the local wastewater treatment system.

The Wheeler State Wildlife Management Area and units of the McKinney National Wildlife Management Area are within or border the proposed No Discharge Area (NDA). There are approximately 107 marinas, 15 public boat ramps, 29 public and numerous private beaches located within the proposed No Discharge Area.

Both recreational and commercial shell fishermen use the area. There are thousands of acres of productive shellfish beds in the proposed NDA supporting oysters, hard shell clams, soft shell clams, and razor clams. The area supports a thriving commercial and recreational fishing fleet. Species of commercial and recreational interest include striped bass, bluefish, blackfish, summer flounder, and winter flounder. The proposed area has a variety of rich natural habitats, and supports a wide diversity of species. The federally listed species include the bald eagle, shortnose sturgeon, piping plover, and puritan tiger beetle as well as dozens of state designated rare and endangered species.

Pumpout Facilities Within Proposed No Discharge Area
Name | Location (figure) | Contact information | Hours of operation (call ahead to verify) | Mean low water depth | Fee
Grass Island Municipal Pumpout | Greenwich Harbor, Greenwich (5A) | No Radio 203-618-9695 | May 1-Oct 31, daily 8 a.m. to 8 p.m | 7 feet | Free.
Beacon Point Marine | Mianus River, Cos Cob (5A) | VHF CH 9 203-661-4033 | April 1-Nov 30, M-F 8 a.m. to 5 p.m., Sat 8 a.m. to 6 p.m., Sun 8 a.m. to 4 p.m | 6 feet | $5.
Mianus River Boat & Yacht Club | Mianus River, Cos Cob (5A) | No Radio 203-869-4689 | April 1-Nov 30, daily 24 hours | No Data | Free.
Riverside Yacht Club | Mianus River, Cos Cob (Not shown on Figure) | 203-637-1706 | No Data | No Data | Members/guests only.
Soundkeeper Pumpout Boat | Greenwich Harbor, Greenwich (5A) | VHF CH 77 1-800-933-SOUND | May 1-Labor Day, W, Th, F 1 p.m. to 5 p.m., Sat, Sun 10 a.m.-6 p.m. Call for Fall Hours | N/A | Free.
Cummings Park Marina | Westcott Cove, Stamford (5A) | No Radio 203-977-5139 | Apr 1-Nov 30, daily 24 hours | 2 feet | Free.
Czescik Municipal Marina | Stamford Harbor, Stamford (5A) | No Radio 203-977-5008 | Year round, daily 24 hours | 5 feet | Free.
Harbour Square Marina | Stamford Harbor East Branch, Stamford (5A) | VHF CH 9 203-324-3331 | May 1-Nov 30, daily 9 a.m. to 8 p.m.; Dec 1-Dec 31, daily 9 a.m. to 3 p.m | 8 feet | $15 for boats >28 feet; $5 for boats <28 feet; free with gas fill-up.
Soundkeeper Pumpout Boat | Stamford Harbor, Stamford (5A) | VHF CH 77 1-800-933-SOUND | May 1-Labor Day call for hours | N/A | Free.
Stamford Landing Marina | Stamford Harbor West Branch. Stamford (5A) | VHF CH 9 203-965-0065 | May 1-Oct 31, daily 9 a.m. to 5 p.m | 9 feet | $15.
Brewer Yacht Haven | Stamford (5A) | No data | No data | No data | No data.
Avalon | Stamford Harbor (5A) | No data | No data | No data | No data.
Soundkeeper Pumpout Boat I | Norwalk Harbor, Fivemile River, Campo Cove, Saugatuck River (5A) | VHF CH 77 1-800-933-SOUND | May 1-Labor Day, T, Th, F, 8 a.m. to 6 p.m. Call for Fall Hours | N/A | Free.
Soundkeeper Pumpout Boat II | Norwalk Harbor, Fivemile River, Campo Cove, Saugatuck River (Not shown on Figure) | VHF CH 77 1-800-933-SOUND | May 1-Labor Day, T, Th, F, 8 a.m. to 6 p.m. Call for Fall Hours | N/A | Free.
Norwalk Cove Marina, Inc | Charles Creek, Norwalk (5A) | VHF CH 9, 72 203-838-2326 | Jan 1-Nov 30, daily 8 a.m. to 6 p.m | 10 feet | $5.
Norwalk Cove Marina, Inc | Charles Creek, Norwalk (5A) | VHF CH 9, 72 203-838-2326 | Jan 1-Nov 30, daily 8 a.m. to 6 p.m | 10 feet | $5.
Norwalk Visitor's Dock | Norwalk Harbor, Norwalk (5A) | VHF CH 9 203-866-8810 | May 1-Oct 31, daily 7 a.m. to 6 p.m | 6 feet | Free.
Rex Marine Center, Inc | Norwalk Harbor, Norwalk (5A) | VHF CH 9 203-866-5555 | Apr 1-Nov 30, daily 8 a.m. to 5 p.m | 6 feet | Free.
South Norwalk Boat Club | Norwalk Harbor, Norwalk (5A) | No data | No data | No data | Member only.
The Boatworks, Inc | Fivemile River, Rowayton (5A) | VHF CH 68 203-866-9295 | Apr 1-Nov 30, daily 8 a.m. to 4:30 p.m | 6 feet | Free.
Compo Yacht Basin | Saugatuck River, Westport (5B) | VHF CH 11, 16 203-227-9136 | May 1-Sept 30, daily 8 a.m. to 8 p.m | 9 feet | Free.
Pequot Yacht Club | Southport Harbor, Fairfield (5B) | VHF CH 69 203-255-5740 | May 15-Oct 1, daily 9 a.m. to 8 p.m | No Data | Free.
South Benson Marina | Ash Creek, Fairfield (5B) | VHF CH 9, 16 203-256-3010 | May 1-Nov 30, daily 8 a.m. to 6 p.m | No data | Free.
Captain's Cove Seaport | Black Rock Harbor, Bridgeport (5B) | VHF CH 18 203-335-1433 | May 1-Sept 30, daily 9 a.m. to 4 p.m | 15 feet | Free.
Cedar Marina, Inc. | Cedar Creek, Bridgeport (5B) | VHF CH 9 203-335-6262 | April 1-Nov 30, daily 8 a.m. to 5 p.m | 8 feet | $5.
City of Bridgeport Pumpout Boat | Black Rock and Bridgeport Harbors, Bridgeport (5B) | VHF CH 6, 9, 13, 16 203-384-9777 | Apr 1-Oct 31, daily 9 a.m. to 5 p.m | N/A | Free.
Fayerweather Yacht Club | Black Rock Harbor, Bridgeport (5B) | VHF CH 14 203-576-6796 | May 15-Oct 15, daily 8 a.m. to 8 p.m | 4 feet | $5.
Miamogue Yacht Club Incorporated | Johnson's Creek, Bridgeport Harbor (Not shown on Figure) | 203-334-9882 |  |  |
Brewer Stratford Marina | Housatonic River, Stratford (5C) | VHF CH 9, 10 203-378-9300 | Year round, daily 9 a.m. to 5 p.m | 10 feet | $5 (free for customers).
Caswell Cove Marina | Stratford (5C) | No data | No data | No data | No data.
Stratford Boardwalk Marina (Formerly Marina at the Dock) | Housatonic River, Stratford (5C) | VHF CH 9 203-378-9300 | Apr 1-Oct 31, daily 8 a.m. to 5 p.m | 8 feet | $5.
Town of Stratford Pumpout Boat | Housatonic River, Stratford (5C) | VHF CH 68 203-381-2049 | May 15-Oct 31, Th-M 10 a.m. to 6 p.m | N/A | Free.
Milford Harbor Marina | Milford Harbor, Milford (5C) | VHF CH 68 203-877-1475 | May 1-Oct 31, daily 8 a.m. to 5 p.m | 8 feet | $5.
Milford Landing | Milford Harbor, Milford (5C) | VHF CH 9 203-874-1610 | Apr 1-Nov 30 daily 7 a.m. to 8 p.m | 9 feet | Free.
West Cove Co-op Marina | West River, West Haven (5C) | No Radio 203-933-3000 | May 1-Sept 30, W-F 3 p.m. to 7 p.m., Sat and Sun 8 a.m. to 7 p.m | 8 feet | $5.
City of New Haven Long Wharf | New Haven Harbor, New Haven (5C) | No Radio 203-946-6779 | Memorial Day-Labor Day, M-F 9 a.m. to 5 p.m. Sat, Sun 10 a.m. to 5 p.m | No data | Free.
Oyster Point Marina | New Haven Harbor, New Haven (5C) | VHF CH 9, 11 203-624-5895 | Apr 1-Oct 31, daily 8 a.m. to 5 p.m | 8 feet | $5.
Waucoma Yacht Club | Quinnipiac River, New Haven (5C) | VHF CH 9 203-789-9530 | Memorial Day-Nov 15, M-F 3 p.m. to 7 p.m. Sat and Sun 10 a.m. to 7 p.m | 4 feet | Free.
Branford Yacht Club | Branford River, Branford (5C) | VHF CH 9 203-488-0798 | June 1-Sept 30, daily 8 a.m. to 7:30 p.m.; April 1-May 31 and Oct 1-Oct 31, daily 8 a.m. to 4:30 p.m | 9 feet | $5 (free for customers).
Brewer Bruce & Johnson's Marina, Inc | Branford River, Branford (5C) | VHF CH 9 203-488-8329 | Apr 1-Nov 30, daily 8 a.m. to 4:30 p.m | 8 feet | $5 (free for customers).
Goodsell Point Marina | Branford River, Branford (5C) | No Radio 203-488-5292 | May 1-Nov 30, daily 9 a.m. to 5 p.m | 7 feet | $25.
Pier 66 Marina | Branford River, Branford (5C) | VHF Ch 9 203-488-5613 | N/A | 10 feet |
Pine Orchard Yacht Club | Branford (5C) | No data | No data | No data | Members only.
Town of Branford Pumpout Boat | Branford River & Thimble Islands, Branford (5C) | VHF CH 9 203-430-9305 | May 15-Oct 31, Sat 8 a.m. to 3 p.m., Sun 8 a.m. to 4 p.m | N/A | Free.

Dated: February 12, 2007.
Robert W. Varney,
Regional Administrator, New England Region 1.

[FR Doc. 07-825 Filed 2-22-07; 8:45 am]

BILLING CODE 6560-50-P